DEPARTMENT OF COMMERCE

International Trade Administration

[A-469-817]

Ripe Olives From Spain: Final Results of Antidumping Duty Administrative Review; 2019-2020

AGENCY: Enforcement and Compliance, International Trade Administration, Department of Commerce.

SUMMARY: The Department of Commerce (Commerce) determines that the producers/exporters subject to this review made sales of subject merchandise in the United States at less than normal value during the period of review (POR) August 1, 2019, through July 31, 2020.

DATES: Applicable December 28, 2021.

FOR FURTHER INFORMATION CONTACT: Jacob Keller or Christopher Williams, AD/CVD Operations, Office I, Enforcement and Compliance, International Trade Administration, U.S. Department of Commerce, 1401 Constitution Avenue NW, Washington, DC 20230; telephone: (202) 482-4849 and 202-482-5166, respectively.

SUPPLEMENTARY INFORMATION:

Background

On September 7, 2021, Commerce published the Preliminary Results of the 2019-2020 administrative review of the antidumping duty order on ripe olives from Spain.¹ This administrative review covers five producers or exporters of the subject merchandise including the two mandatory respondents, Agro Sevilla Aceitunas S.Coop. And. (Agro Sevilla) and Angel Camacho Alimentacion S.L. (Angel Camacho). We invited interested parties to comment on the Preliminary Results. On October 8, 2021, we received case briefs from the domestic interested party, Musco Family Olive Company (Musco) and from the mandatory respondents, Agro Sevilla and Angel Camacho.² On October 19, 2021, Musco, Agro Sevilla, and Angel Camacho submitted rebuttal briefs.³ Commerce conducted this review in accordance with section 751(a)(1)(B) of the Tariff Act of 1930, as amended (the Act).

¹ See Ripe Olives from Spain: Preliminary Results of Antidumping Duty Administrative Review; 2019-2020, 86 FR 50052 (September 7, 2021) (Preliminary Results), and accompanying Preliminary Decision Memorandum (PDM).

² See Musco's Letters, “Ripe Olives from Spain; 2nd Administrative Review Musco Case Brief Concerning Agro Sevilla,” dated October 8, 2021; and “Ripe Olives from Spain; 2nd Administrative Review Musco Case Brief Concerning Camacho,” dated October 8, 2021; see also Agro Sevilla's Letter, “Agro Sevilla's Case Brief: Ripe Olives from Spain (08/01/2019-07/31/2020),” dated October 8, 2021; and Angel Camacho's Letter, “Camacho's Case Brief: Ripe Olives from Spain (08/01/2019-07/31/2020),” dated October 8, 2021.

³ See Musco's Letters, “Ripe Olives from Spain; 2nd Administrative Review Musco Rebuttal Brief Concerning Agro Sevilla,” dated October 19, 2021; and “Ripe Olives from Spain; 2nd Administrative Review Musco Rebuttal Brief Concerning Camacho,” dated October 19, 2021; see also Agro Sevilla's Letter, “Agro Sevilla's Rebuttal Brief: Ripe Olives from Spain (08/01/2019-07/31/2020),” dated October 19, 2021; and Angel Camacho's Letter, “Rebuttal Brief of Angel Camacho Alimentacion, S.L.: Ripe Olives from Spain (08/01/2019-07/31/2020),” dated October 19, 2021.

Scope of the Order

The merchandise subject to the Order ⁴ are ripe olives. A full description of the scope of the order is contained in the Issues and Decision Memorandum.⁵

⁴ See Ripe Olives from Spain: Antidumping Duty Order, 83 FR 37465 (August 1, 2018) (Order); see also Ripe Olives from Spain: Notice of Correction to Antidumping Duty Order, 83 FR 39691 (August 10, 2018) (Order).

⁵ See Memorandum, “Ripe Olives from Spain: Issues and Decision Memorandum for the Final Results of Antidumping Duty Administrative Review; 2019-2020,” dated concurrently with, and hereby adopted by, this notice (Issues and Decision Memorandum).

Analysis of Comments Received

All issues raised in the case and rebuttal briefs that were submitted by parties in this investigation are addressed in the Issues and Decision Memorandum and are listed in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on the comments received from interested parties regarding our Preliminary Results, and for the reasons explained in in the Issues and Decision memorandum, we made certain changes for the final results of review.

Final Results of the Administrative Review

We determine that the following weighted-average dumping margins exist for the period August 1, 2019, through July 31, 2020:

Producer/exporter | Weighted- average dumping margin (percent)
Agro Sevilla Aceitunas S.Coop. And | 2.78
Angel Camacho Alimentacion S.L | 4.51
Review-Specific Weighted-Average Rate Applicable to the Following Companies
Aceitunas Guadalquivir, S.L | 3.56
Alimentary Group Dcoop S. Coop. And | 3.56
Internacional Olivarera, S.A | 3.56

Disclosure

We intend to disclose the calculations performed in connection with these final results to parties in this proceeding within five days after public announcement of the final results or, if there is no public announcement, within five days of the date of publication of the notice of final results in the Federal Register, in accordance with 19 CFR 351.224(b).

Assessment Rates

Pursuant to section 751(a)(2)(A) of the Act and 19 CFR 351.212(b)(1), Commerce will determine, and U.S. Customs and Border Protection (CBP) shall assess, antidumping duties on all appropriate entries of subject merchandise in accordance with the final results of this review.

For Agro Sevilla and Angel Camacho we calculated importer-specific assessment rates on the basis of the ratio of the total amount of dumping calculated for each importer's examined sales and the total entered value of those sales in accordance with 19 CFR 351.212(b)(1).⁶ Where an importer-specific assessment rate is de minimis (i.e., less than 0.5 percent), the entries by that importer will be liquidated without regard to antidumping duties.

⁶ In these final results, Commerce applied the assessment rate calculation method adopted in Antidumping Proceedings: Calculation of the Weighted-Average Dumping Margin and Assessment Rate in Certain Antidumping Duty Proceedings; Final Modification, 77 FR 8101 (February 14, 2012).

For entries of subject merchandise during the POR produced by either of the individually examined respondents for which it did not know that its merchandise was destined for the United States, we will instruct CBP to liquidate unreviewed entries at the all-others rate if there is no rate for the intermediate company(ies) involved in the transaction.⁷

⁷ See Antidumping and Countervailing Duty Proceedings: Assessment of Antidumping Duties, 68 FR 23954 (May 6, 2003).

For the companies identified above that were not selected for individual examination, we will instruct CBP to liquidate entries at the rates established in these final results of review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of this notice for all shipments of ripe olives entered, or withdrawn from warehouse, for consumption on or after the date of publication as provided by section 751(a)(2) of the Act: (1) The cash deposit rates for the companies subject to this review will be equal to the company-specific weighted-average dumping margin established in the final results of the review; (2) for merchandise exported by producers or exporters not covered in this review but covered in a prior completed segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; (4) the cash deposit rate for all other producers or exporters will continue to be 19.98 percent, the all-others rate established in the less-than-fair-value investigation for this proceeding.⁸ These cash deposit requirements, when imposed, shall remain in effect until further notice.

⁸ See Ripe Olives from Spain: Antidumping Duty Order, 83 FR 37465 (August 1, 2018).

Notification to Importers

This notice serves as a final reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sactionable violation.

Notification to Interested Parties

We are issuing and publishing these results of administrative review in accordance with sections 751(a) and 777(i) of the Act, and 19 CFR 351.221(b)(5).

Dated: December 21, 2021.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Agro Sevilla

Comment 1: Standard Cost

Comment 2: Major-Input Rule Adjustment

Comment 3: Indirect Selling Expenses Ratio

Comment 4: Constructed Export Price Offset

Angel Camacho

Comment 5: Adjustment for Raw Material Purchases

Comment 6: Indirect Selling Expenses Ratio

Comment 7: U.S. Sales Rebates

VI. Recommendation

[FR Doc. 2021-28173 Filed 12-27-21; 8:45 am]

BILLING CODE 3510-DS-P